DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c) (2)(A)]. This program helps to ensure that requested data can be provided in the desired format, reporting burden (time and financial resources) is minimized, collection instruments are clearly understood, and the impact of collection requirements on respondents can be properly assessed. The Bureau of Labor Statistics (BLS) is soliciting comments concerning the proposed revision of the Annual Refiling Survey (ARS). A copy of the proposed information collection request (ICR) can be obtained by contacting the individual listed below in the ADDRESSES section of this notice.

DATES: Written comments must be submitted to the office listed in the Addresses section of this notice on or before September 23, 2013.

ADDRESSES: Send comments to Carol Rowan, BLS Clearance Officer, Division of Management Systems, Bureau of Labor Statistics, Room 4080, 2 Massachusetts Avenue NE., Washington, DC 20212. Written comments also may be transmitted by fax to 202-691-5111 (this is not a toll free number).

FOR FURTHER INFORMATION CONTACT: Carol Rowan, BLS Clearance Officer, 202-691-7628 (this is not a toll free number). (See Addresses section.)

SUPPLEMENTARY INFORMATION:

I. Background

The Quarterly Census of Employment and Wages (QCEW) program is a Federal/State cooperative effort which compiles monthly employment data, quarterly wages data, and business identification information from employers subject to State Unemployment Insurance (UI) laws. These data are collected from State Quarterly Contribution Reports (QCRs) submitted to State Workforce Agencies (SWAs). The States send micro-level employment and wages data, supplemented with the names, addresses, and business identification information of these employers, to the BLS. The State micro-level data files are used to create the BLS sampling frame, known as the longitudinal QCEW data.

To ensure the continued accuracy of these data, the information supplied by employers must be periodically verified and updated. For this purpose, the Annual Refiling Survey (ARS) is used in conjunction with the UI tax reporting system in each State. The information collected on the ARS is used to review the existing industry code assigned to each establishment as well as the physical location of the business establishment. As a result, changes in the industrial and geographical compositions of our economy are captured in a timely manner and reflected in the BLS statistical programs.

The ARS also asks employers to identify new locations in the State. If these employers meet QCEW program reporting criteria, then a Multiple Worksite Report (MWR) is sent to the employer requesting employment and wages for each worksite each quarter. Thus, the ARS is also used to identify new potential MWR-eligible employers.

II. Current Action

Office of Management and Budget clearance is being sought for a revision of the ARS. While the primary purpose of the ARS is to verify or to correct the North American Industry Classification System (NAICS) code assigned to establishments, there are other important purposes of the ARS. The ARS seeks accurate mailing and physical location addresses of establishments as well as geographical codes such as county and township (independent city, parish, or island in some States). The BLS and the Census Bureau signed a Memorandum of Understanding in 2012 to share selected business data on multi-location companies. Both the BLS and the Census Bureau compile and maintain censuses of business establishments in the United States that contain economic and administrative data for nearly all businesses in the United States. A key aspect of data quality is that businesses include accurate NAICS and geographic categorizations. Both agencies have reviewed each other's business lists and have identified information that can improve the quality and comparability of these data. Specifically, information from the ARS will be used to verify NAICS codes independently and to provide these to the Census Bureau to improve data quality and reduce costs and respondent burden through increased data sharing.

Once every three years, the SWAs survey employers that are covered by the State's UI laws to ensure that State records correctly reflect the business activities and locations of those employers. The QCEW program sends an ARS form to approximately one-third of businesses each year, surveying the entire universe of covered businesses over a three-year cycle. The selection criterion for surveying establishments is based on the nine-digit Federal Employer Identification Number of the respondent.

The ARS remains largely a mail survey, although steps have been taken to reduce the amount of paperwork involved in responding to the survey. For example, BLS staff review selected, large multi-worksite national employers rather than surveying these employers with traditional ARS forms. This central review reduces postage costs incurred in sending ARS forms. It also reduces respondent burden, as the selected employers do not have to submit ARS forms.

Single-worksite employers have been identified as potential users of the BLS Touchtone Response System (TRS). Employers can use the TRS if they meet certain conditions and there are no changes to specific data elements based upon the employer's review. The TRS reduces respondent burden because it is quick, free, and convenient. It also allows respondents to help BLS reduce survey costs because they do not return the form in the business reply envelope provided. All States are using the TRS in conducting the ARS.

Building on the success of the TRS, the BLS added online reporting options for the ARS. Respondents have the option to provide their information via a secure Web site. Respondents are still able to mail their returns if they so desire or they can use the TRS if eligible and if they have no changes to report.

Finally, BLS continues to use a private contractor to handle various administrative aspects of the survey to reduce the costs associated with the ARS. This initiative is called the Contracted Annual Refiling Survey (CARS). Under CARS, BLS effectively utilizes the commercial advantages related to printing, stuffing, and mailing large volumes of survey forms.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including the use of appropriate automated, electronic, mechanical, or other collection techniques or other forms of information technology, e.g., permitting electronic submissions of responses.

Type of Review: Revision of a currently approved collection.

Agency: Bureau of Labor Statistics.

Title: Annual Refiling Survey (ARS).

OMB Number: 1220-0032.

Affected Public: Business or other for-profit institutions, not-for-profit institutions, and farms.

Frequency: Annually.

Form number | Total respondents | Frequency | Total responses | Average time per response | Total burden (hours)
BLS 3023-(NVS) | 1,407,614 | Once | 1,407,614 | 5 minutes | 117,301
BLS 3023-(NVM) | 39,483 | Once | 39,483 | 15 minutes | 9,871
BLS 3023-(NCA) | 158,818 | Once | 158,818 | 10 minutes | 26,470
Totals: | 1,605,915 |  | 1,605,915 |  | 153,642

Total Burden Cost (Capital/Startup): $0.

Total Burden Cost (Operating/Maintenance): $0.

Comments submitted in response to this notice will be summarized and/or included in the request for Office of Management and Budget approval of the information collection request; they also will become a matter of public record.

Signed at Washington, DC, this 17th day of July, 2013.
Kimberley Hill,
Chief, Division of Management Systems, Bureau of Labor Statistics.

[FR Doc. 2013-17578 Filed 7-22-13; 8:45 am]

BILLING CODE 4510-24-P